DEPARTMENT OF ENERGY

Federal Energy Regulatory Commission

Combined Notice of Filings #1

Take notice that the Commission received the following electric rate filings:

Docket Numbers: ER15-556-001.

Applicants: Direct Energy Small Business, LLC.

Description: Tariff Amendment per 35.17(b): Supplemental Filing to Revise 232 to be effective 1/7/2015.

Filed Date: 1/7/15.

Accession Number: 20150107-5143.

Comments Due: 5 p.m. ET 1/28/15.

Docket Numbers: ER15-558-001.

Applicants: Direct Energy Business Marketing, LLC.

Description: Tariff Amendment per 35.17(b): Supplemental Filing to Revise 274 to be effective 1/7/2015.

Filed Date: 1/7/15.

Accession Number: 20150107-5178.

Comments Due: 5 p.m. ET 1/28/15.

Docket Numbers: ER15-825-000.

Applicants: AEP Texas North Company.

Description: § 205(d) rate filing per 35.13(a)(2)(iii): TNC-RE Roserock Interconnection Agreement to be effective 12/15/2014 under.

Filed Date: 1/7/15.

Accession Number: 20150107-5055.

Comments Due: 5 p.m. ET 1/28/15.

Docket Numbers: ER15-826-000.

Applicants: New York State Electric & Gas Corporation.

Description: Notice of Cancellation of Interconnection Agreement between New York Electric & Gas Corporation and Windfarm Prattsburgh, LLC.

Filed Date: 1/6/15.

Accession Number: 20150106-5231.

Comments Due: 5 p.m. ET 1/27/15.

Docket Numbers: ER15-827-000.

Applicants: Pacific Gas and Electric Company.

Description: Tariff Withdrawal per 35.15: Notice of Termination of Collinsville LGIA, TO Service Agreement No. 137 to be effective 1/21/2015.

Filed Date: 1/7/15.

Accession Number: 20150107-5118.

Comments Due: 5 p.m. ET 1/28/15.

Docket Numbers: ER15-828-000.

Applicants: Louisville Gas and Electric Company.

Description: § 205(d) rate filing per 35.13(a)(2)(iii): Modifications to Att O Formula Rate to be effective 2/1/2015.

Filed Date: 1/7/15.

Accession Number: 20150107-5128.

Comments Due: 5 p.m. ET 1/28/15.

Docket Numbers: ER15-829-000.

Applicants: Southwest Power Pool, Inc.

Description: § 205(d) rate filing per 35.13(a)(2)(iii): 2472 SPS/PSCO External Generation Agreement Cancellation to be effective 8/1/2014.

Filed Date: 1/7/15.

Accession Number: 20150107-5223.

Comments Due: 5 p.m. ET 1/28/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 7, 2015.
Nathaniel J. Davis, Sr.,
Deputy Secretary.

[FR Doc. 2015-00384 Filed 1-13-15; 8:45 am]

BILLING CODE 6717-01-P